DEPARTMENT OF HOMELAND SECURITY

Federal Emergency Management Agency

[Docket ID FEMA-2015-0001; Internal Agency Docket No. FEMA-B-1548]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 18, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1548, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: December 14, 2015.
Roy E. Wright,
Deputy Associate Administrator for Insurance and Mitigation, Department of Homeland Security, Federal Emergency Management Agency.

I. Non-watershed-based studies:

Community | Community map repository address
Carroll County, Iowa, and Incorporated Areas
Maps Available for Inspection Online at: http://www.fema.gov/preliminaryfloodhazarddata
Project: 15-07-0901S Preliminary Date: June 8, 2015
City of Arcadia | City Hall, 205 West Front Street, Arcadia, IA 51430.
City of Carroll | City Hall, 112 East 5th Street, Carroll, IA 51401.
City of Coon Rapids | City Hall, 123 3rd Avenue, Coon Rapids, IA 50058.
City of Dedham | City Hall, 210 Main Street, Dedham, IA 51440.
City of Glidden | City Hall, 108 Idaho Street, Glidden, IA 51443.
City of Halbur | City Hall, 238 West 2nd Street, Halbur, IA 51444.
City of Lanesboro | City Hall, 210 East Main Street, Lanesboro, IA 51451.
City of Manning | City Hall, 717 3rd Street, Manning, IA 51455.
Unincorporated Areas of Carroll County | Carroll County Building, 114 East 6th Street, Carroll, IA 51401.
Page County, Iowa, and Incorporated Areas
Maps Available for Inspection Online at: http://www.fema.gov/preliminaryfloodhazarddata
Project: 15-07-0891S Preliminary Date: June 8, 2015
City of Blanchard | City Hall, 104 Main Street, Blanchard, IA 51630.
City of Braddyville | City Hall, 208 East Main Street, Braddyville, IA 51631.
City of Clarinda | City Hall, 200 South 15th Street, Clarinda, IA 51632.
City of Coin | City Hall, 506 Depot Street, Coin, IA 51636.
City of Essex | City Hall, 412 Iowa Avenue, Essex, IA 51638.
City of Hepburn | Hepburn City Office, 501 Railroad Street, Clarinda, IA 51632.
City of Northboro | Clarinda City Building, 200 South 15th Street, Clarinda, IA 51632.
City of Shambaugh | City Hall, 307 Main Street, Shambaugh, IA 51651.
City of Shenandoah | City Hall, 500 West Clarinda Avenue, Shenandoah, IA 51601.
City of Yorktown | Clarinda City Building, 200 South 15th Street, Clarinda, IA 51632.
Unincorporated Areas of Page County | Clarinda City Building, 200 South 15th Street, Clarinda, IA 51632.
Polk County, Iowa and Incorporated Areas
Maps Available for Inspection Online at: http://www.fema.gov/preliminaryfloodhazarddata
Project: 12-07-0956S Preliminary Date: June 17, 2015
City of Alleman | City Hall, 14000 Northeast 6th Street, Alleman, IA 50007.
City of Altoona | City Hall, 407 8th Street Southeast, Altoona, IA 50009.
City of Ankeny | City Hall, 410 West 1st Street, Ankeny, IA 50023.
City of Bondurant | City Hall, 200 2nd Street Northeast, Bondurant, IA 50035.
City of Clive | City Hall, 1900 Northwest 114th Street, Clive, IA 50325.
City of Des Moines | City Hall, 400 Robert D. Ray Drive, Des Moines, IA 50309.
City of Grimes | City Hall, 101 Northeast Harvey Street, Grimes, IA 50111.
City of Johnston | City Hall, 6221 Merle Hay Road, Johnston, IA 50131.
City of Mitchellville | City Hall, 204 Center Avenue North, Mitchellville, IA 50169.
City of Pleasant Hill | City Hall, 5160 Maple Drive, Pleasant Hill, IA 50327.
City of Polk City | City Hall, 112 3rd Street, Polk City, IA 50226.
City of Runnells | City Hall, 110 Brown Street, Runnells, IA 50237.
City of Urbandale | City Hall, 3600 86th Street, Urbandale, IA 50322.
City of West Des Moines | City Hall, 4200 Mills Civic Parkway, West Des Moines, IA 50265.
City of Windsor Heights | City Hall, 1145 66th Street, Suite 1, Windsor Heights, IA 50324.
Unincorporated Areas of Polk County | Polk County Public Works, 5885 Northeast 14th Street, Des Moines, IA 50313.
Union County, Iowa, and Incorporated Areas
Maps Available for Inspection Online at: http://www.fema.gov/preliminaryfloodhazarddata
Project: 15-07-0894S Preliminary Date: June 8, 2015
City of Creston | City Hall, 116 West Adams Street, Creston, IA 50801.
City of Cromwell | City Hall, 907 Broadway Street, Cromwell, IA 50842.
City of Shannon City | City Hall, 302 Union Street, Shannon City, IA 50861.
Unincorporated Areas of Union County | Union County Emergency Management Agency, Alliant Energy Building, 208 West Taylor Street, Creston, IA 50801.
Polk County, Minnesota and Incorporated Areas
Maps Available for Inspection Online at: http://www.fema.gov/preliminaryfloodhazarddata
Project: 10-05-2050S Preliminary Date: July 1, 2014
City of Beltrami | 514 Polk Avenue, Beltrami, MN 56517.
City of Climax | Climax City Hall, 102 West Broadway Street, Climax, MN 56523.
City of Crookston | Crookston City Hall, 124 North Broadway, Crookston, MN 56716.
City of East Grand Forks | East Grand Forks City Hall, 600 DeMers Avenue, East Grand Forks, MN 56721.
City of Fertile | Fertile City Hall, 101 South Mill Street, Fertile, MN 56540.
City of Fisher | Fisher City Office, 313 Park Avenue, Suite 111, Fisher, MN 56723.
City of Fosston | Fosston City Hall, 220 East First Street, Fosston, MN 56542.
City of Mcintosh | McIntosh City Hall, 115 Broadway, Northwest, McIntosh, MN 56556.
City of Mentor | Mentor City Hall, 202 Garfield Avenue, North Mentor, MN 56736.
City of Nielsville | Nielsville City Hall, 36943 440th Street, Southwest, Nielsville, MN 56568.
City of Winger | Winger City Hall, 10 East Minnesota Avenue, Winger, MN 56592.
Unincorporated Areas of Polk County | Polk County Government Center, 612 North Broadway, Room 225, Crookston, MN 56716.
Roseau County, Minnesota and Incorporated Areas
Maps Available for Inspection Online at: http://www.fema.gov/preliminaryfloodhazarddata
Project: 07-05-0462S Preliminary Date: August 31, 2015
City of Badger | 111 North Main Street, Badger, MN 56714.

[FR Doc. 2016-00772 Filed 1-15-16; 8:45 am]

BILLING CODE 9110-12-P